DEPARTMENT OF JUSTICE

Antitrust Division

Notice Pursuant to the National Cooperative Research and Production Act of 1993—Enterprise Computer Telephony Forum (“ECTF”)

Notice is hereby given that, on October 21, 1999, pursuant to section 6(a) of the National Cooperative Research and Production Act of 1993, 15 U.S.C. 4301 et seq. (“the Act”), Enterprise Computer Telephony Form (“ECTF”) has filed written notifications simultaneously with the Attorney General and the Federal Trade Commission disclosing changes in its membership status. The notifications were filed for the purpose of extending the Act's provisions limiting the recovery of antitrust plaintiffs to actual damages under specified circumstances. Specifically, Bosch Telecom GmbH, Frankfort, GERMANY; Telesoft Design, Inc., Dorset, ENGLAND; Cyberlog International, Inc., San Antonio, TX; SI Logic Limitd, Aldermaston, ENGLAND; Digi International, Minnetonka, MN; and Nokia Networks, Helsinki, FINLAND have been added as Principal Members. Sail Labs GesmbH, Vienna, AUSTRIA; RadiSys Corporation, Houston, TX; and 8×8, Inc., Santa Clara, CA have been added as Auditing Members. Also, Nokia Telecommunications, Helsinki, FINLAND has been dropped as a Principal Member; and Texas MicroSystems, Houston, TX has been dropped as an Auditing Member to this venture.

No other changes have been made in either the membership or planned activity of the group research project. Membership in this group research project remains open, and Enterprise Computer Telephony Form (“ECTF”) intends to file additional written notification disclosing all changes in membership.

On February 20, 1996, Enterprise Computer Telephony Forum (“ECTF”) filed its original notification pursuant to Section 6(a) of the Act. The Department of Justice published a notice in the Federal Register pursuant to section 6(b) of the Act on May 13, 1996 (61 FR 222074).

The last notification was filed with the Department on July 8, 1999. A notice has not yet been published in the Federal Register.

Constance K. Robinson,
Director of Operations, Antitrust Division.

[FR Doc. 00-16478 Filed 6-28-00; 8:45 am]

BILLING CODE 4410-11-M